ENVIRONMENTAL PROTECTION AGENCY

40 CFR Part 52

[PA138-4098a; FRL-7562-6]

Approval and Promulgation of Air Quality Implementation Plans; Removal of Direct Final Rule; Federally Enforceable State Operating Permit Program; Allegheny County, PA

AGENCY: Environmental Protection Agency (EPA).

ACTION: Removal of final rule.

SUMMARY: Because EPA received adverse comments, we are removing our approval of the revision to the Allegheny County portion of the Commonwealth of Pennsylvania State Implementation Plan which consists of Allegheny County's state operating permit program. EPA is removing the language of the rule which was to approve the revision in accordance with the requirements of sections 110 and 112 of the Clean Air Act. The original action was published in the Federal Register on June 26, 2003 as a direct final rule. We will address the comments received in a future final action based on the proposed rule which was also published on June 26, 2003.

DATES: This rule is effective on November 25, 2003.

FOR FURTHER INFORMATION CONTACT: Paul T. Wentworth, Permits and Technical Assessment Branch at (215) 814-2183 or by e-mail at wentworth.paul@epa.gov.

SUPPLEMENTARY INFORMATION: Please see the information provided in the direct final action published in the Federal Register on June 26, 2003 (68 FR 37973) and in the companion proposed rule which was also published on June 26, 2003 (68 FR 37993).

List of Subjects in 40 CFR Part 52

Environmental protection, Air pollution control, Intergovernmental relations, Reporting and recordkeeping requirements.

40 CFR part 52 is amended as follows:

PART 52—[AMENDED]

1. The authority citation for part 52 continues to read as follows:

Authority: 42 U.S.C. 7401 et seq.

2. Section 52.2020 is amended by removing paragraph (c)(209).

Dated: September 10, 2003.
Donald S. Welsh,
Regional Administrator, Region III.

[FR Doc. 03-24119 Filed 9-25-03; 8:45 am]

BILLING CODE 6560-50-P